DEPARTMENT OF LABOR

Employment and Training Administration

[TA-W-37,637]

Fort James Operating Company, Wauna Mill, Clatskanie, OR; Notice of Termination of Investigation

Pursuant to Section 221 of the Trade Act of 1974, an investigation was initiated on May 1, 2000, in response to a worker petition which was filed by the company on behalf of workers at the Wauna Mill, Fort James Operating Company, Clatskanie, Oregon.

The petitioner has requested that the petition be withdrawn. Consequently further investigation in this care would serve no purpose, and the investigation has been terminated.

Signed in Washington, DC, this 25th day of May, 2000.
Grant D. Beale,
Program Manager, Division of Trade Adjustment Assistance.

[FR Doc. 00-15145 Filed 6-14-00; 8:45 am]

BILLING CODE 4510-30-M